DEPARTMENT OF HEALTH AND HUMAN SERVICES

National Institutes of Health

Submission for OMB Review; Comment Request; Behavioral and Environmental Risk Factors for Childhood

Summary: Under the provisions of section 3507(a)(1)(D) of the Paperwork Reduction Act of 1995, the National Institute of Child Health and Human Development (NICHD), the National Institutes of Health (NIH) has submitted to the Office of Management and Budget (OMB) a request to review and approve the information collection listed below. This proposed information collection was previously published in the Federal Register on January 29, 2002, page 4275 and allowed 60 days for public comment. Public comments in support of the data collection were received from the American Academy of Pediatrics. The purpose of this notice is to allow an additional 30 days for public comment. The National Institutes of Health may not conduct or sponsor, and the respondent is not required to respond to, an information collection that has been extended, revised, or implemented on or after October 1, 1995, unless it displays a currently valid OMB control number.

Proposed Collection

Title: Behavioral and Environmental Risk Factors for Childhood Drowning. Type of Information Collection Request: New. Need and Use of Information Collection: The proposed study seeks to determine the relationship between swimming lessons, swimming ability, and other risk or protective factors on the one hand, and the risk of drowning on the other. Drowning is the second leading cause of unintentional injury death among children in the United States. Children under the age of five years are at particularly increased risk with drowning rates peaking among 1-2 year olds. Adolescent males are also at increased risk. While some preventive strategies, such as pool fencing, are known to be effective, the impact of other preventive strategies is unclear. For example, it is estimated that at least 20% of children between the ages of 1-4 years participate in formal swimming instructions, yet the effect of these instructions on the risk of drowning is unknown. Some argue that early exposure to swimming lessons might increase the risk of drowning by increasing exposure and decreasing children's fear of the water. Among adolescents, there is some indirect evidence that more skilled swimmers may be at increased risk of drowning. Better swimmers are likely to participate in more water-related activities and may feel confident enough to swim in higher risk settings, such as remote natural bodies of water with no lifeguards present. The findings from this study will provide valuable information concerning risk and protective factors for childhood drownings, information that is crucial in directing future preventive efforts. The proposed study will utilize a case-control methodology to identify associations between behavioral and environmental factors and the risk of drowning.

Interviews will be conducted with parents/guardians of 1272 children (424 cases and 848 controls.) The case interview and the control interview are estimated to take 40 minutes to complete. Additionally, a short, 10 minute questionnaire will be administered to 200 adolescents ages 14-19 years to assess risk behaviors related to water activities. Controls will be identified through random-digit dialing. It is estimated that 32,358 households will need to be screened (at 5 minutes per screener) to identify the 848 controls. Screening and study interviews will be conducted over a 27-month study period. There are no Capital Costs, Operating Costs and/or Maintenance Costs to report.

Type of respondent | Number of respondents | Frequency of response | Average hours per response | Total hours burden | Annual hour burden
Respondents to Parent/Guardian Case Interview | 424 | 1 | 0.667 | 282.8 | 126
Respondents to RDD Screener | 32,358 | 1 | 0.0835 | 2701.8 | 1201
Respondents to Control Interview | 848 | 1 | 0.667 | 565.6 | 251
Respondents to Adolescent Interview | 200 | 1 | 0.167 | 33.4 | 15
Total |  |  |  | 3,583.6 | 1,593

Request for Comments

Written comments and/or suggestions from the public and affected agencies should address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Charles Grewe, Contracting Officer, NICHD, NIH. Address: 6100 Executive Blvd., Suite 7A07, Bethesda, MD 20892-7510; e-mail address cg59b@nih.gov; Phone: (303) 496-4611 (collect calls cannot be accepted).

Comments Due Date: Comments regarding this information collection are best assured of having their full effect if received within 30-days of the date of this publication.

Dated: October 9, 2002.
Kathleen Wilburn,
Project Clearance Liaison, NICHD, National Institutes of Health.

[FR Doc. 02-26699 Filed 10-18-02; 8:45 am]

BILLING CODE 4140-01-M